DEPARTMENT OF EDUCATION

[Docket No.: ED-2023-SCC-0069]

Agency Information Collection Activities; Comment Request; REL Pacific Efficacy and Implementation Evaluation of the Secondary Writing Toolkit

AGENCY: Institute of Education Sciences (IES), Department of Education (ED).

ACTION: Notice.

SUMMARY: In accordance with the Paperwork Reduction Act (PRA) of 1995, the Department is proposing a new information collection request (ICR).

DATES: Interested persons are invited to submit comments on or before June 26, 2023.

ADDRESSES: To access and review all the documents related to the information collection listed in this notice, please use http://www.regulations.gov by searching the Docket ID number ED-2023-SCC-0069. Comments submitted in response to this notice should be submitted electronically through the Federal eRulemaking Portal at http://www.regulations.gov by selecting the Docket ID number or via postal mail, commercial delivery, or hand delivery. If the regulations.gov site is not available to the public for any reason, the Department will temporarily accept comments at ICDocketMgr@ed.gov. Please include the docket ID number and the title of the information collection request when requesting documents or submitting comments. Please note that comments submitted after the comment period will not be accepted. Written requests for information or comments submitted by postal mail or delivery should be addressed to the Manager of the Strategic Collections and Clearance Governance and Strategy Division, U.S. Department of Education, 400 Maryland Ave. SW, LBJ, Room 6W203, Washington, DC 20202-8240.

FOR FURTHER INFORMATION CONTACT: For specific questions related to collection activities, please contact Elizabeth Nolan, (312) 730-1532.

SUPPLEMENTARY INFORMATION: The Department, in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. The Department is soliciting comments on the proposed information collection request (ICR) that is described below. The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: REL Pacific Efficacy and Implementation Evaluation of the Secondary Writing Toolkit.

OMB Control Number: 1850-NEW.

Type of Review: New ICR.

Respondents/Affected Public: Individuals or Households.

Total Estimated Number of Annual Responses: 1,705.

Total Estimated Number of Annual Burden Hours: 416.

Abstract: The current authorization for the Regional Educational Laboratories (REL) program is under the Education Sciences Reform Act of 2002, Part D, Section 174, (20 U.S.C. 9564), administered by the Department of Education, Institute of Education Sciences (IES), National Center for Education Evaluation and Regional Assistance (NCEE). The central mission and primary function of the RELs is to support applied research and provide technical assistance to state and local education agencies within their region (ESRA, Part D, section 174[f]). The REL program's goal is to partner with educators and policymakers to conduct work that is change-oriented and supports meaningful local, regional, or state decisions about education policies, programs, and practices to improve outcomes for students.

Literacy, including writing, is closely tied to student success throughout K-12 education, which impacts high school graduation (National Institute for Literacy, 2008; NCES, 2020) and ultimately, income beyond graduation (US Bureau of Labor Statistics, 2019). Despite the importance of writing to life and learning, teachers report that the training they receive on teaching writing, both prior to entering the field and while teaching, is minimal or insufficient (Graham, 2019). To address this problem, the REL Pacific toolkit development team is developing a Secondary Writing Toolkit to support teachers in implementing Hawai`i evidence-based instructional strategies to improve writing among students in grades 6-8. The toolkit is based on the Teaching Secondary Students to Write Effectively WWC Practice Guide and is being developed in collaboration with district and school partners in Hawai`i.

REL Pacific will design the Toolkit to help teachers improve their writing instruction so that students in Hawai`i become stronger, more effective writers. The Toolkit uses Professional Learning Communities (PLCs) facilitated by one of the teachers in the school (peer facilitator) to help teachers learn new instructional skills. Teachers also have access to instructional resources as part of the Toolkit to support their use of evidence-based strategies in their classrooms.

This study is designed to measure the efficacy and implementation of the REL Pacific-developed toolkit designed to improve writing among students in grades 6-8. The toolkit evaluation team plans to conduct an independent evaluation using a school-level, cluster randomized controlled trial design to assess the efficacy of the school-based professional learning resources included in the toolkit. The evaluation will also assess how teachers and facilitators implement the toolkit to provide context for the efficacy findings and guidance to improve the toolkit and its future use. The evaluation will take place in 40 schools in Hawai`i and focus on all students in grades 6-8. The toolkit evaluation will produce a report for district and school leaders who are considering strategies to improve writing among secondary students. The report will provide guidance on using the Toolkit professional development and resources to help teachers implement the Practice Guide (PG) recommendations.

Dated: April 19, 2023.
Juliana Pearson,
PRA Coordinator, Strategic Collections and Clearance Governance and Strategy Division, Office of Chief Data Officer, Office of Planning, Evaluation and Policy Development.

[FR Doc. 2023-08657 Filed 4-24-23; 8:45 am]

BILLING CODE 4000-01-P